DEPARTMENT OF TRANSPORTATION

National Highway Traffic Safety Administration

[Docket No. NHTSA-2014-0025]

Agency Request for Approval of a New Information Collection: Recruitment and Debriefing of Human Subjects for Field Study on Vehicle Occupant Protection Technologies

AGENCY: National Highway Traffic Safety Administration, DOT.

ACTION: Request for public comments on a proposed collection of information.

SUMMARY: The Department of Transportation (DOT) invites public comments about our intention to request Office of Management and Budget (OMB) approval for a new information collection. The information collection involves eligibility, demographic, and debriefing questionnaires. The information will be used to recruit participants for a field study on vehicle occupant protection technologies and to get information from study participants about their experience with such technologies. The study focuses on occupant protection technologies that restrict some vehicle functionality, permanently or temporarily, when they detect that a vehicle occupant is not wearing a seat belt.

DATES: Written comments should be submitted by May 12, 2014.

ADDRESSES: You may submit comments identified by Docket No. NHTSA-2014-0025 through one of the following methods:

• Federal eRulemaking Portal: Go to http://www.regulations.gov. Follow the online instructions for submitting comments.

• Mail or Hand Delivery: Docket Management Facility, US Department of Transportation, 1200 New Jersey Avenue SE., West Building Ground Floor, Room W12-140, Washington, DC 20590 between 9 a.m. and 5 p.m. Eastern Time, Monday through Friday, except Federal holidays. Telephone: 202-366-9826.

• Fax: 202-493-2251.

Instructions: All submission must include the agency name and docket number for this proposed collection of information. Note that all comments received will be posted without change to http://www.regulation.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html .

Docket: For access to the docket to read comments received, go to http://www.regulations.gov, or the street address listed above. Follow the online instructions for accessing the dockets.

FOR FURTHER INFORMATION CONTACT: For access to background documents, contact Lisandra Garay-Vega, Ph.D.; 202-366-1412 Vehicle Safety Research, National Highway Traffic Safety Administration, U.S. Department of Transportation, 1200 New Jersey Avenue SE., Washington, DC 20590.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

OMB Control Number: Not assigned.

Title: Recruitment and Debriefing of Human Subjects for Field Test of Vehicle Occupant Protection Technologies

Form Numbers: None.

Type of Review: New Information Collection

Background: NHTSA's mission is to save lives, prevent injuries, and reduce economic losses resulting from motor vehicle crashes. Increasing seat belt use is one of the agency's highest priorities. Seat belt use has shown an increasing trend since 1995, accompanied by a steady decline in the percentage of unrestrained passenger vehicle occupant fatalities during daytime. In 2013, the nationwide seat belt use reached 87 percent for drivers and front seat passengers.¹ Despite gains in seat belt usage, data from the 2011 Fatality Analysis Reporting System (FARS) indicates that 52 percent of all passenger vehicle crash fatalities ² were unbelted occupants.³ The age group 21 to 24 had the highest percentage of unrestrained occupants killed: 2,172 fatalities, of which 1,385 (64%) were unrestrained. The second highest percentage of unrestrained passenger vehicle occupant fatalities was 63 percent among 25- to 34-year-olds.ᶜ Use of lap/shoulder seat belts reduce the risk of fatal injury to front-seat passenger car occupants by 45 percent and the risk of moderate-to-critical injury by 50 percent. In 2011 alone, seat belts saved an estimated 11,949 lives.ᶜ

¹ Pickrell, T. M., & Liu, C. (2014, January). Seat Belt Use in 2013—Overall Results. (Traffic Safety Facts Research Note. Report No. DOT HS 811 875). Washington, DC: National Highway Traffic Safety Administration.

² The 2012 and 2013 data on the percent of unrestrained passenger vehicle occupant fatalities during daytime is not yet available.

³ NHTSA. (2013, June) Occupant Protection (Traffic Safety Facts 2011 Data. Report No.DOT HS 811 729). Washington, DC: National Highway Traffic Safety Administration. http://www.nrd.nhtsa.dot.gov/Pubs/811729.pdf.

The proposed study will examine seat belt use; users' acceptance of emerging vehicle technologies designed to increase seat belt use; likelihood and potential strategies to circumvent the system; and unintended consequences. The study method consists of a field operation test to collect objective and subjective data about two prototype technologies developed by automakers to increase seat belt use. A total of 32 drivers from two age groups will be recruited to participate in the study, 16 non-seatbelt users (8 young drivers; 8 middle-aged drivers), and 16 part-time users (8 young drivers; 8 middle-aged drivers). The study sample will have equal numbers of male and female drivers from each age group. The research team acknowledges that it may not be possible to recruit non-users given the high seat belt use rate in Michigan (more than 90%). Alternatively, the research team may consider recruiting part-time users with different non-belt use frequencies. The estimated burden hours are shown for 48 to 60 respondents to account for estimated dropout rates.

Each driver will be presented with one baseline condition and each of the two vehicle occupant protection technologies. Each condition will last one week. Therefore, each participant will drive the research vehicles for three weeks. A data acquisition system will record system state (i.e., door, ignition, driver seat belt buckle) and video inside the vehicle cabin. The University of Michigan Transportation Research Institute, in collaboration with the Virginia Tech Transportation Institute and Montana State University, Western Transportation Institute, will conduct this study under a research contract with the NHTSA.

Description of the Need for the Information and Proposed Use of the Information: The collection of information consists of: (1) An eligibility questionnaire, (2) a demographic questionnaire; and (3) post study questionnaires.

The information to be collected will be used to:

• Eligibility questionnaire(s) will be used to obtain self-reported driving history information. Individuals interested in participating in the study will be asked to provide information about their driving history. People who have been convicted of felony motor convictions will be excluded. Individuals who pass the initial screening will be asked to provide their driver license number and consent to review their driving records to confirm self-reported driving history information. Drivers' consent and driving license numbers will be used to obtain official driving records from the state of Michigan. Individuals will be excluded from participating in the study if they refuse to grant UMTRI permission to review their public driving records or if they have been convicted of felony motor convictions in the last 2 years. This exclusion criterion is used to reduce the liability risk of providing participants with research vehicles.

• Demographic questionnaire will be used to obtain demographic information to confirm that the study group includes participants from various groups (e.g., age; gender; part-time seat belt users or those who sometimes wear their belts; non-users or those who never wear a seat belt; etc. Other demographic information will be collected to describe the study sample (e.g., annual travel distance).

• Post study questionnaire(s) will be used to get information about drivers' beliefs and attitude towards each occupant protection technology tested, and to identify potential problems associated with each system. These questionnaires will also be used to assess perceived usability of the systems in terms of acceptance and satisfaction, as well as willingness to have this technology in their vehicle. Each driver will complete a post study questionnaire twice, one by the end of the second week and the other by the end of the third week.

Respondents: Michigan drivers with a valid driver license.

Estimated Number of Respondents: 48 to 60

Estimated Number of Responses: One response per person to 25 to 160 questions total.

Estimated Total Annual Burden: 35 minutes per respondent (46 hours total).

Estimated Frequency: one-time for the eligibility and demographic questionnaire; two-times for the post study questionnaire.

⁴ The number of respondents in this table includes drop-out rates.

⁵ Estimated based on the mean hourly rate for Michigan (all occupations) is $21.14 as reported in the May 2011 Occupational Employment and Wage Estimates, Bureau of Labor Statistics. http://www.bls.gov/oes/oes_dl.htm.

Table 1—Estimated Burden Hours
Instrument | Number of respondents ⁴ | Frequency of responses | Number of questions | Estimated individual burden (minutes) | Total estimated burden hours | Total annualize cost to respondents ⁵
Eligibility questionnaire | 60 | 1 | 25 | 10 | 10 | $211.40
Demographic questionnaire | 48 | 1 | 15 | 5 | 4 | 84.56
Post study questionnaire | 48 | 2 | 60 | 20 | 32 | 676.48
Total |  |  |  |  | 46 | 972.44

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995, 44. U.S.C. Chapter 35, as amended; 5 CFR part 1320; and 49 CFR 1.95.

Nathaniel Beuse,
Associate Administrator for Vehicle Safety Research.

[FR Doc. 2014-05368 Filed 3-12-14; 8:45 am]

BILLING CODE 4910-59-P